DEPARTMENT OF ENERGY

Federal Energy Regulatory Commission

[Docket Nos. CP10-22-000; CP16-18-000]

Magnum Gas Storage, LLC; Notice of Request for Extension of Time

Take notice that on August 17, 2020, Magnum Gas Storage, LLC (Magnum) requested that the Federal Energy Regulatory Commission (Commission) grant a four- and one-half-year extension of time, until May 17, 2025, to construct and place into service the Magnum Gas Storage Project facilities (Facilities) which were originally authorized by the Commission on March 17, 2011 (Certificate Order) ¹ and subsequently amended by the Commission on November 17, 2016 (Amendment Order). ² The Amendment Order required Magnum to construct and place the facilities in service by November 17, 2020. On April 23, 2020 the Commission issued an Order Vacating Certificate Authorization in Part which vacated certificate authorization for two natural gas storage caverns, one brine disposal pond, and other associated facilities.³ Currently, the certificated facilities consist of two natural gas storage caverns and associated wells; a 61.6-mile-long, 36-inch-diameter natural gas pipeline header; gas compression and dehydration facilities; one brine evaporation pond and associated water supply and pumping facilities and various other above and below ground piping, control and communications equipment.

¹ Magnum Gas Storage, LLC, 134 FERC ¶ 61,197 (2011).

² Magnum Gas Storage, LLC, 157 FERC ¶ 61,114 (2016).

³ Magnum Gas Storage, LLC, 171 FERC ¶ 61,069 (2020).

Magnum has experienced delays in initiating construction of the Facilities due to delays in permitting of the related state jurisdictional facilities, changes in the overall project scope and changing market conditions. As a result, construction of Magnum's facilities has not yet begun. In its August 17, 2020 request, Magnum explains that it is continuing to diligently develop the Magnum Gas Storage Project and has secured the necessary permits for construction and has secured substantial land, mineral and water rights associated with construction of the Facilities. Magnum further explains that its Facilities are directly adjacent to the site of the Intermountain Power Project (IPP) which is converting its electric power plant from coal to natural gas and the Advanced Clean Energy Storage (ACES) Project which is developing renewable energy storage using hydrogen, compressed air, large-scale flow batteries and solid oxide fuel cells, which will require the use of natural gas in the conversion process for the foreseeable future. Magnum states that it is uniquely positioned to provide delivery and storage of natural gas in the vicinity of the ACES and IPP Projects.

This notice establishes a 15-calendar day intervention and comment period deadline. Any person wishing to comment on Magnum's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁴

⁴ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁵ the Commission will aim to issue an order acting on the request within 45 days.⁶ The Commission will address all arguments relating to whether the applicant has demonstrated there is good cause to grant the extension.⁷ The Commission will not consider arguments that re-litigate the issuance of the certificate order, including whether the Commission properly found the project to be in the public convenience and necessity and whether the Commission's environmental analysis for the certificate complied with the National Environmental Policy Act.⁸ At the time a pipeline requests an extension of time, orders on certificates of public convenience and necessity are final and the Commission will not re-litigate their issuance.⁹ The OEP Director, or his or her designee, will act on all of those extension requests that are uncontested.

⁵ Contested proceedings are those where an intervenor disputes any material issue of the filing. 18 CFR 385.2201(c)(1) (2019).

⁶ Algonquin Gas Transmission, LLC, 170 FERC ¶ 61,144, at P 40 (2020).

⁷ Id. at P 40.

⁸ Similarly, the Commission will not re-litigate the issuance of an NGA section 3 authorization, including whether a proposed project is not inconsistent with the public interest and whether the Commission's environmental analysis for the permit order complied with NEPA.

⁹ Algonquin Gas Transmission, LLC, 170 FERC ¶ 61,144, at P 40 (2020).

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on September 4, 2020.

Dated: August 20, 2020.
Nathaniel J. Davis, Sr.,
Deputy Secretary.

[FR Doc. 2020-18730 Filed 8-25-20; 8:45 am]

BILLING CODE 6717-01-P